DEPARTMENT OF ENERGY

Federal Energy Regulatory Commission

[Project No. 739-022]

Appalachian Power Company; Notice of Application Tendered for Filing With the Commission and Establishing Procedural Schedule for Licensing and Deadline for Submission of Final Amendments

July 1, 2009.

Take notice that the following hydroelectric application has been filed with the Commission and is available for public inspection.

a. Type of Application: New Major License.

b. Project No.: 739-022.

c. Date Filed: June 29, 2009.

d. Applicant: Appalachian Power Company.

e. Name of Project: Claytor Project.

f. Location: On the New River in Pulaski County, Virginia. The project does not affect Federal lands.

g. Filed Pursuant to: Federal Power Act 16 U.S.C. 791 (a)-825(r).

h. Applicant Contact: Ms. Teresa Rogers, Reservoir Superintendent, Appalachian Power Company, 40 Franklin Road, Roanoke, VA 24011, (540) 985-2441, tprogers@aep.com.

i. FERC Contact: John Smith, (202) 502-8972 or john.smith@ferc.gov.

j. This application is not ready for environmental analysis at this time.

k. The Project Description: The Claytor Project consists of: (1) A 1,142-foot-long, 137-foot-high concrete gravity dam; (2) a 4,472-acre reservoir with a storage capacity of 225,000 acre-feet at normal pool elevation 1,846.0 feet National Geodetic Vertical Datum (NGVD); (3) four 16-foot-diameter penstocks; (4) a powerhouse integral with the dam containing four generating units with a combined capacity of 75 megawatts; (5) a 1,000-foot-long transmission line; and (6) switching and appurtenant equipment.

The applicant proposes to expand its current levelized flow mode whereby releases from the project approximate inflows to the project over a 24-hour period from April 15 through October 15 to April 1 through November 30. Reservoir levels would continue to be maintained between 1,845 feet NGVD and 1,846 feet NGVD and a minimum average hourly flow of 750 cubic feet per second (cfs), or inflow, whichever is less, would be provided downstream of the project. The applicant would also modify the current period for peaking operations from October 16 through April 14 to December 1 through March 31 and increase its minimum average hourly downstream flow from 750 cfs to 1,000 cfs, or inflow, whichever is less. During this period, the applicant would extend the time to ramp down during peaking operations from 15 minutes to 30 minutes but continue to bring units on line in 15-minute intervals to meet system demands. Reservoir levels would be maintained between 1,844 feet NGVD and 1,846 feet NGVD. In addition, the applicant would eliminate the current winter drawdown to protect aquatic resources including state-listed mussel populations. For recreation purposes, the applicant is proposing to provide weekend releases of 1,000 cfs when inflow falls below 1,000 cfs but is above 800 cfs and would provide recreation releases for the annual squirt boat competition each May.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule: The application will be processed according to the following Hydro Licensing Schedule. Revisions to the schedule may be made as appropriate.

Milestone | Target date
Notice of Acceptance/Notice of Ready for Environmental Analysis (when FERC approved studies are complete) | September 27, 2009.
Filing of recommendations, preliminary terms and conditions, and fishway prescriptions | November 26, 2009.
Commission issues Draft EA | July 9, 2010.
Comments on Draft EA | August 8, 2010.
Filing Modified Terms and Conditions | October 7, 2010.
Commission Issues Final EA | January 5, 2011.

o. Final amendments to the application must be filed with the Commission no later than 30 days from the issuance date of the notice of ready for environmental analysis.

Kimberly D. Bose,
Secretary.

[FR Doc. E9-16158 Filed 7-8-09; 8:45 am]

BILLING CODE 6717-01-P